DEPARTMENT OF HOUSING AND URBAN DEVELOPMENT

[Docket No. FR-5500-FA-04]

Announcement of Funding Awards; Indian Community Development Block Grant Program; Fiscal Year 2011

AGENCY: Office of Native American Programs, Office of Public and Indian Housing, HUD.

ACTION: Announcement of funding awards.

SUMMARY: In accordance with Section 102(a)(4)(C) of the Department of Housing and Urban Development Reform Act of 1989, this announcement notifies the public of funding decisions made by the Department in a competition for funding under the Fiscal Year 2011 (FY 2011) Notice of Funding Availability (NOFA) for the Indian Community Development Block Grant (ICDBG) program. This announcement contains the consolidated names and addresses of this year's award recipients under the ICDBG program.

FOR FURTHER INFORMATION CONTACT: For questions concerning the ICDBG Program awards, contact the Area Office of Native American Programs (ONAP) serving your area or Deborah M. Lalancette, Office of Native Programs, 1670 Broadway, 23rd Floor, Denver, CO 80202, telephone (303) 675-1600. Hearing or speech-impaired individuals may access this number via TTY by calling the toll-free Federal Information Relay Service at (800) 877-8339.

SUPPLEMENTARY INFORMATION: This program provides grants to Indian tribes and Alaska Native Villages to develop viable Indian and Alaska Native communities, including the creation of decent housing, suitable living environments, and economic opportunities primarily for persons with low and moderate incomes as defined in 24 CFR 1003.4.

The FY 2011 awards announced in this Notice were selected for funding in a competition posted on www.grants.gov on April 20, 2011. Applications were scored and selected for funding based on the selection criteria in that notice and Area ONAP geographic jurisdictional competitions.

The amount available in FY 2011 to fund the ICDBG single purpose grants was $60,944,168. In addition, $3,276,832 was retained to fund Imminent Threat grants in FY 2011. The allocations for the Area ONAP geographic jurisdictions are as follows:

Eastern/Woodlands: $ 6,915,116

Southern Plains: $12,997,421

Northern Plains: $ 8,691,578

Southwest: $22,691,804

Northwest: $ 3,108,249

Alaska: $ 6,540,000

Total $60,944,168

In accordance with Section 102 (a)(4)(C) of the Department of Housing and Urban Development Reform Act of 1989 (103 Stat.1987, 42 U.S.C. 3545), the Department is publishing the names, addresses, and amounts of the 84 awards made under the various regional competitions in Appendix A to this document.

Dated: December 7, 2011.
Sandra B. Henriquez,
Assistant Secretary for Public and Indian Housing.

Name/address of applicant | Amount funded | Activity funded | Project description
Ak-Chin Indian Community, Honorable Louis Manuel Jr., Chairperson, 42507 West Peters & Nall Road, Maricopa, AZ 85239-3940, (520) 568-1013 | $605,000 | Public Facility Community Center | Cultural & Language Building.
All Mission Indian Housing Authority (LaJolla), Dave Shaffer, Executive Director, 27740 Jefferson Avenue, Temecula, CA 92590, (951) 760-7390 | 605,000 | Housing Construction | Construct 3 homes.
All Mission Indian Housing Authority (Santa Rosa) Dave Shaffer, Executive Director, 27740 Jefferson Avenue, Temecula, CA 92590, (951) 760-7390 | 605,000 | Housing Construction | Construct 3 homes.
All Mission Indian Housing Authority (Torres-Martinez), Dave Shaffer, Executive Director, 27740 Jefferson Ave, Temecula, CA 92590, (951) 760-7390 | 605,000 | Housing Construction | Construct 4 homes.
Bay Mills Indian Community, Jeffrey D. Parker, President, 3095 S. Towering Pines, Brimley, MI 49715, (906) 248-3241 | 600,000 | Public Facility Community Center | Child Development Center.
Big Pine Paiute Tribe of the Owens Valley, Honorable Virgil Moose, Chairperson, P.O. Box 700, Big Pine, CA 93513, (760) 938-2003 | 605,000 | Housing Rehabilitation | Rehabilitation of 15 homes.
Big Valley Tribe of Pomo Indians, Honorable Valentino Jack, Chairperson, 2726 Mission Rancheria Road, Lakeport, CA 95453, (707) 263-3924 | 605,000 | Housing Construction | Construct 6 rental units.
Bishop Paiute Tribe, Honorable William Vega, Chairperson, 50 Tu Su Lane, Bishop, CA 93514-8058, (760) 873-3584 | 605,000 | Public Facility Community Center | Cultural Center Renovation.
Catawba Indian Nation, Honorable William Harris, Chief, 996 Avenue of the Nations, Rock Hill, SC 29730, (803) 366-0629 | 600,000 | Public Facility Community Center | Project-Turtle Haven.
Chemehuevi Indian Tribe, Honorable Charles Wood, Chairperson, PO Box 1976, Havasu Lake, CA 92363, (760) 858-4219 | 605,000 | Public Facility Infrastructure | Underground Electrical Wiring to Sewer Lift Stations.
Chickasaw Nation, Honorable Bill Anoatubby, Governor, P.O. 1548, Ada, OK 74821, (580) 436-2603 | 800,000 | Public Facility Community Center | Hospitality House.
Chippewa Cree Tribe of Montana, Jonathan Eagleman, Tribal Water Resources Director, 96 Clinic Road, Box Elder, MT 59521, (406) 395-4225 | 900,000 | Public Facility/Infrastructure | Upgrade water system to allow for, future housing and business, expansion.
Choctaw Nation of Oklahoma, Honorable Gregory E. Pyle, Chief, P.O. Drawer 1210, Durant, OK 74702, (580) 924-8280 | 800,000 | Public Facilities Infrastructure | Infrastructure—Water Tower and Water Distribution System.
Citizen Potawatomi Nation, Honorable John A. Barrett, Chairman, 1601 S. Gordon Cooper Drive, Shawnee, OK 74801, (405) 275-3121 | 800,000 | Microenterprise | Microenterprise Project.
Comanche Nation Housing Authority, Norman Leveille, Executive Director, P.O. Box 1671, Lawton, OK 73502, (580) 357-4956 | 800,000 | Housing Rehabilitation | Housing Rehabilitation.
Coos, Lower Umpqua, Siuslaw Tribe, Stephanie Matthews, Tribal Administrator, 1245 Fulton Avenue, Coos Bay, OR 97420, (541) 888-9577 | 500,000 | Housing Rehabilitation | Rehabilitation of 38 low-income housing units.
Coquille Indian Housing Authority, Honorable Edward Metcalf, Tribal Chairman 2678 Mexeye Loop, Coos Bay, OR 97420, (541) 756-0904 | 500,000 | Housing Rehabilitation | Roof replacement on 71 housing units.
Crow Creek Housing Authority, Joseph Sazue, Jr. Executive Director, P.O. Box 19, Fort Thompson, SD 57339, (605) 245-2250 | 900,000 | Housing Rehabilitation | Rehabilitation of 31 single family dwellings.
Crow Tribe of Indians, Honorable Cedric Black Eagle, Tribal Chairman, P.O. Box 159, Crow Agency, MT 59022, (406) 638-3715 | 750,000 | Public Facility Infrastructure | Upgrade water system to allow for, improved water disinfection and, distribution.
Delaware Tribe of Oklahoma, Honorable Paula Pechonick Chief, 170 N.E. Barbara Avenue, Bartlesville, OK 74006, (918) 336-5272 | 800,000 | Public Facilities Infrastructure | Infrastructure/AOA Elder Nutrition Kitchen.
Dry Creek Rancheria Band of Pomo Indians, Honorable Harvey Hopkins, Chairperson, P.O. Box 607, Geyserville, CA 95448-0607, (707) 522-4290 | 605,000 | Homebuyer Assistance | Assist 10 homebuyers with down Payment Assistance.
Eastern Shawnee Tribe of Oklahoma, Honorable Glenna J. Wallace, Chief, P.O. Box 350, Seneca, MO 64865, (918) 666-2435 | 800,000 | Public Facility Community Center | Elder Independent Living Community Center.
Elko Band of Te-Moak Tribe, Honorable Gerald Temoke, Chairperson, 1745 Silver Eagle Drive, Elko, NV 89801, (775) 738-8889 | 605,000 | Public Facility Community Center | Construct Head Start Building.
Fond du Lac Band of the Minnesota Chippewa, Honorable Karen Diver, Chairperson, 1720 Big Lake Road, Cloquet, MN 55720, (218) 879-4593 | 545,000 | Public Facility Community Center | Waterline Expansion: Phase one.
Fort McDermitt Paiute-Shoshone Tribe, Honorable Billy Bell, Chairperson, P.O. Box 457, McDermitt, NV 89421, (775) 532-8913 | 605,000 | Economic Development Project | Construct Travel Plaza.
Gila River Health Corporation, Heather Chavez, Executive Director, P.O. Box 38,, Sacaton, AZ 85147-0038, (602) 528-1456 | 2,750,000 | Public Facility & Infrastructure | Rehabilitation of Medical Facility.
Greenville Rancheria of Maidu Indians, Honorable Kyle Self, Chairperson, P.O. Box 279, Greenville, CA 95947, (530) 284-7990 | 590,000 | Land Acquisition | Acquisition of existing Multifamily units for 8 Families.
Ho-Chunk Nation, Honorable Jon Greendeer, President, W9814 Airport Road, Black River Falls, WI 54615, (715) 284-9343 | 600,000 | Public Facility Community Center | Law Enforcement Center.
Holy Cross Village, Honorable Eugene Paul, Chief, P.O. Box 89, Holy Cross, AK 99602, (907) 476-7124 | 600,000 | Public Facility, Community Center | Community Center.
Houlton Band of Maliseet, Honorable Brenda Commander, Chief, P.O. Box 88, Houlton, ME 04730, (207) 532-4273 | 600,000 | Public Facility Community Center | Multi Purpose Athletic field.
Hualapai Indian Tribe, Honorable Wilfred Whatoname, Sr., Chairperson, P.O. Box 179, Peach Springs, AZ 86434, (928) 769-2216 | 825,000 | Public Facility & Improvements | Youth Camp Infrastructure.
Iowa Tribe of Kansas and Nebraska, Honorable Timothy Rhodd, Chairman, 3345 B. Thrasher Road, White Cloud, KS 66094, (785) 595-3258 | 737,500 | Public Facility Community Center | Construction of Community Center.
Jicarilla Apache Housing Authority, Lisa Manwell, Executive Director, PO Box 486, Dulce, NM 87528, (575) 759-3415 | 500,000 | Housing Rehabilitation | Rehabilitation of 25 homes.
Kickapoo Traditional Tribe of Texas, Honorable Juan Garza, Jr., Chairman, HC 1, Box 9700, Eagle Pass, TX 78852-2430, (830) 773-1209 | 800,000 | Public Facility Community Center | Construction of a Community Center Elder/Wellness/Community.
Klamath Tribe, Honorable Gary Frost, Tribal Chairman P.O. Box 436, Chiloquin, OR 97624, (541) 783-2210 | 500,000 | Public Facility Community Center | Childcare Center.
Knik Tribe, Gerald Pilot, Housing Director, P.O. Box 871565, Wasilla, AK 99687-1565, (907) 556-8165 | 600,000 | Housing Rehabilitation | Acquire and rehabilitate two duplexes.
Lac Courte Oreilles Band, Honorable Gordon Thayer, Chairman, 13394 W. Trepania Road, Hayward, WI 54843, (715) 634-8934 | 600,000 | Public Facility Community Center | Solid Waste Management Facility.
Lac du Flambeau Band of Lake Superior, Dee Mayo, Tribal Vice-Chairperson, PO Box 67, Lac du Flambeau, WI 54538, (715) 588-3303 | 600,000 | Public Facility Community Center | Boys dormitory rehabilitation.
Lower Brule Sioux Tribe, Stuart Langdeau, Grants Development Coordinator, 187 Oyate Circle, Lower Brule, SD 57548, (605) 473-5561 | 900,000 | Housing Rehabilitation | Rehabilitation of 18 single family dwellings.
Lummi Indian Housing Authority, Honorable Jacqueline Ballew, Chairman, 2828 Kwina Road, Bellingham, WA 98226, (360) 312-8407 | 495,795 | Public Facility Community Center | Gymnasium in low-income housing area.
Mentasta Traditional Council, Nora David, First Chief, P.O. Box 6019, Mentasta Lake, AK 99780, (907) 291-2319 | 560,000 | Public Facility Community Center | Multi-purpose Community Center.
Mescalero Apache Housing Authority, Alvin Benally, Executive Director, P.O. Box 227, Mescalero, NM 88340-0227, (575) 464-9235 | 655,783 | Housing Rehabilitation | Rehabilitation of 15 homes.
Metlakatla Indian Community, Ron Ryan, Executive Director, P.O. Box 59, Metlakatla, AK 99926, (907) 886-6500 | 600,000 | Housing Rehabilitation | Rehabilitate Senior Rental Complex.
Miami Tribe of Oklahoma, Honorable Tom Gamble, Chief, P.O. Box 1326, Miami, OK 74355-1326, (918) 542-1445 | 800,000 | Public Facility Community Center | Northeastern Tribal Health System Education Center.
Muscogee (Creek) Nation, Honorable A.D. Ellis, Principal Chief, P.O. Box 580, Okmulgee, OK 74447, (918) 756-8700 | 800,000 | Public Facility Community Center | Student Center Library.
Native Village of Kluti-Kaah, Teri Nutter, Executive Director, P.O. Box 68, Copper Center, AK 99573, (907) 822-3633 | 600,000 | Housing-New Construction | Construct three homes.
Native Village of Kwinhagak, Felipe Hernandez III, Tribal Administrator, P.O. Box 149, Quinhagak, AK, (907) 556-8165 | 600,000 | Land Acquisition | Acquire sites for new housing.
Native Village of Nanawalek, Wally Kvasnikoff, First Chief, P.O. Box 8028, Nanawalek, AK 99634, (907) 281-2274 | 600,000 | Public Facility Community Center | Youth Activities Clinic.
Native Village of Napakiak, Gerald Pflugh, Grant Writer, P.O. Box 34069, Napakiak, AK 99634, (907) 495-1800 | 600,000 | Public Facility Community Center | Construct Health Clinic.
Noorvik Native Community, Honorable Joshua Melton, President, P.O. Box 209, Noorvik, AK, (907) 636-2144 | 600,000 | Housing Rehabilitation | Housing Rehabilitation.
Navajo Nation, Honorable Ben Shelly, President, PO Box 7440, Window Rock, AZ 86515, (928) 871-6352 | 4,506,720 | Public Facility Infrastructure | Power Lines & Water Treatment Facility.
North Fork Rancheria of Mono Indians, Honorable Judy Fink, Chairperson, P.O. Box 929, North Fork, CA 93643-0929, (559) 877-2461 | 605,000 | Public Facility Community Center | Construct TANF Building.
Northern Arapaho Housing Authority, Patrick Goggles, Executive Director, 501 Ethete Road, Ethete, WY 82520, (307) 332-5318 | 1,100,000 | Public Facility Special Needs | Remodel and expansion of the Arapahoe Health Clinic.
Northern Cheyenne Tribal Housing Authority, Lafe Haugen, Executive Director, P.O. Box 327, Lame Deer, MT 59043, (406) 477-6419 | 900,000 | Housing Rehabilitation | Rehabilitation of 30 single family dwellings.
Oglala Sioux (Lakota) Housing Authority, Doyle Pipe On Head, Assistant CEO, 400 East Main, Pine Ridge, SD 57770, (605) 867-5161 | 1,100,000 | Housing Rehabilitation | Rehabilitation of 190 single family dwellings.
Oneida Tribe of WI, Honorable Ed Delgado, Chairman, P.O. Box 365, Oneida, WI 54155, (920) 869-4000 | 600,000 | Public Facility Community Center | Elder Village Infrastructure.
Ottawa Tribe, Honorable Ethel Cook, Chief, P.O. Box 110, Miami OK 74355, (918) 540-1536 | 800,000 | Housing Rehabilitation | Housing Rehabilitation.
Paiute Indian Tribe of Utah, Gayle Rollo, Tribal Administrator, 440 North Paiute Drive, Cedar City, UT 84721, (435) 586-1112 | 900,000 | Economic Development | Design and construction of the Koosharem RV Park and Campground.
Pawnee Nation of Oklahoma, Honorable George Howell, President, P.O. Box 765, Pawnee, OK 74058, (918) 762-3621 | 800,000 | Public Facility Community Center | Ceremonial Round House Renovation and Water Well.
Pit River Tribal Housing Board, Allen Lowry, Executive Director, P.O. Box 2350, Burney, CA 96013, (530) 335-4809 | 559,000 | Housing Construction | Construct 5 units.
Poarch Band of Creek Indians of AL, Honorable Buford L. Rolin, Chairperson, 5811 Jack Springs Road, Atmore, AL 36502, (251) 368-9136 | 600,000 | Public Facility Community Center | Senior Services Center.
Pueblo of Zuni, Honorable Arlen Quetawki Sr., Governor, P.O. Box 339, Zuni, NM 87327-0339, (505) 782-7021 | 2,200,000 | Housing Rehabilitation | Rehabilitation of 35 units.
Puyallup Nation Housing Authority, Annette Bryan, Executive Director, P.O. Box 1844, Tacoma, WA 98404, (253) 680-5995 | 500,000 | Housing Rehabilitation | Rehabilitation of 27 housing units.
Quapaw Tribe of Oklahoma, Honorable John Berrey, Chairman, P.O. Box 765, Quapaw, OK 74363, (918) 542-1853 | 799,894 | Public Facility Community Center | Quapaw Elder Center Expansion.
Quechan Tribally Designated Housing Entity, Tad Zavodsky, Executive Director, 1860 W Sapphire Lane, Winterhaven, CA 92283, (760) 572-0245 | 425,301 | Public Facility Infrastructure | Streets, Roads & Sidewalks for existing development.
Reno-Sparks Indian Colony, Honorable Arlan Melendez, Chairperson, 98 Colony Road, Reno, NV 89502, (775) 329-2936 | 605,000 | Housing Rehabilitation | Rehabilitation of 120 homes & Security Camera installation for 15 unit Apartment Complex.
Salish and Kootenai Housing Authority, Jason Adams, Executive Director, P.O. Box 38, Pablo, MT 59855, (406) 675-4491 | 641,578 | Housing Rehabilitation | Rehabilitation of 18 single family dwellings.
Seneca-Cayuga Tribe of Oklahoma, Honorable Leroy Howard, Chief, 23701 S. 655 Road, Grove, OK 74344, (918) 787-5452 ext. 12 | 718,962 | Public Facility Community Center | Renovation of the Seneca-Cayuga Clinic.
Shageluk Native Village, Randy Workman, First Chief, P.O. Box 35, Shageluk, AK 99665, (907) 473-8239 | 580,000 | Public Facility Community Center | Multi-purpose community center.
Shawnee Tribe, Honorable Ron Sparkman, Chairman, P.O. Box 189, Miami, OK 74355, (918) 542-2441 | 341,065 | Public Facility Community Center | Continue Rehabilitation of the Shawnee Tribe Social Service Resources Center Phase 2.
Spokane Tribe, Honorable Gregory Abrahamson, Tribal Chairman P.O. Box 195, Spokane, WA 99040, (509) 458-6507 | 62,454 | Public Facility Community Center | Youth and Sports Center in low-income housing area.
Spokane Tribe, Honorable Gregory Abrahamson, Tribal Chairman P.O. Box 195, Spokane, WA 99040, (509) 458-6507 | 50,000 | Public Facility/Infrastructure | Garbage transfer station improvements.
St. Croix Chippewa Indians of WI, Honorable Stuart Bear Heart, Chairman, 24663 Angeline Avenue, Webster, WI 54893, (715) 349-5768 | 370,116 | Housing Rehabilitation | St. Croix Rehab Project.
St. Regis Band of Mohawk Indians of NY, Honorable Mark Garrow, Chief, Akwesasne, NY 13655, (518) 358-2272 | 600,000 | Public Facility Community Center | Sewer Expansion.
Swinomish Housing Authority, John Petrich, Executive Director, P.O. Box 677, LaConner, WA, (360) 466-4081 | 246,155 | Land Acquisition | Land acquisition for low income housing.
Swinomish Housing Authority, John Petrich, Executive Director, P.O. Box 677, LaConner, WA, (360) 466-4081 | 253,845 | Public Facility/Infrastructure | Infrastructure for low-income housing.
Tonkawa Tribe of Oklahoma, Honorable Donald L. Patterson, President, 1 Rush Buffalo Road, Tonkawa OK 74653, (580) 628-2561 | 800,000 | Public Facility Community Center | Public Building Renovation.
Turtle Mountain Band of Chippewa Indians, Sharon Poitra, Block Grant Administrator, P.O. Box 900, Belcourt, ND 58316, (701) 477-6124 | 600,000 | Housing Rehabilitation | Rehabilitation of 15 single family, Dwellings.
United Keetoowah Band, Honorable George Wickliffe, Chief, P.O. Box 746, Tahlequah OK 74465, (918) 456-5126 | 800,000 | Public Facility Community Center | Transit Facility.
Village of Atmautluak, Gerald Pflugh, Grant Writer, P.O. Box 6568, Atmautluak, AK 99559, (907) 459-1800 | 600,000 | Public Facility Community Center | Renovate Health Clinic.
Washoe Housing Authority, Raymond Gonzales Jr., Executive Director, 1588 Watasheamu Drive, Gardnerville. NV 89410, (775) 265-2410 | 605,000 | Housing Infrastructure | Subdivision Infrastructure.
White Earth Band of Chippewa, Honorable Erma Vizenor, Chairperson, PO Box 418, White Earth, MN 56591, (218) 983-3285 | 600,000 | Public Facility Community Center | Work Force Development Center.
Ysleta Del Sur, Honorable Frank Paiz, Governor, 119 S. Old Pueblo Road, El Paso, TX 79917, (915) 859-8053 | 605,000 | Public Facility Community Center | Construct Employment Training Building.
Yurok Tribe, Honorable Thomas O'Rourke Sr., Chairperson, P.O. Box 1027, Klamath, CA 95548-1027, (707) 482-1350 | 605,000 | Public Facility & Improvements | Cultural Knowledge Park.

[FR Doc. 2011-32083 Filed 12-13-11; 8:45 am]

BILLING CODE 4210-67-P